DEPARTMENT OF THE INTERIOR

Bureau of Land Management

[MT-926-04-1420-BJ]

Montana: Filing of Plat of Survey

AGENCY: Bureau of Land Management, Montana State Office, Interior.

ACTION: Notice of filing of plat of survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, P.O. Box 36800, Billings, Montana 59107-6800, telephone (406) 896-5121 or (406) 896-5009.

SUPPLEMENTARY INFORMATION: This survey was executed at the request of the U.S. Forest Service and was necessary to delineate Forest Service lands. The lands we surveyed are:

Principal Meridian, Montana

T. 6 S., R. 2 E.

The plat, in three sheets, representing the dependent resurvey of portions of the east boundary and subdivisional lines, the subdivision of section 26 and the survey of a portion of the Lee Metcalf Wilderness Boundary, Township 6 South, Range 2 East, Principal Meridian, Montana, was accepted April 9, 2004.

We will place copy of the plat, in 3 sheets, in the open files. They will be available to the public as a matter of information.

If BLM receives a protest against this survey, as shown on this plat, in three sheets, prior to the date of the official filing, we will stay the filing pending our consideration of the protest.

We will not officially file this plat, in three sheets, until the day after we have accepted or dismissed all protests and they have become final, including decisions or appeals.

Dated: April 9, 2004.
Thomas M. Deiling,
Chief Cadastral Surveyor, Division of Resources.

[FR Doc. 04-8641 Filed 4-15-04; 8:45 am]

BILLING CODE 4310-$$-P